DEPARTMENT OF VETERANS AFFAIRS

Advisory Committee on Former Prisoners of War, Notice of Meeting

The Department of Veterans Affairs (VA) gives notice under the Federal Advisory Committee Act, 5 U.S.C. 10, that the Advisory Committee on Former Prisoners of War will conduct a hybrid meeting (in-person and virtual) on April 26, 2023 through April 27, 2023 at various locations shown below.

The meetings will begin and end as follows, to include public participation:

Date | Time | Location | Open session
April 26, 2023 | 8:00 a.m.-4:00 p.m. (EST) | Lafayette City Center, 2 Avenue de Lafayette, Boston, MA 02111 or via Microsoft TEAMS Link | Yes.
April 27, 2023 | 8:00 a.m.-9:00 a.m. (EST) | Boston VA Medical Center, 150 South Huntington Ave., Jamaica Plain, MA campus or via Microsoft TEAMS Link | Yes.
April 27, 2023 | 9:00 a.m.-12:00 p.m. (EST) | Boston VA Medical Center | No.
April 27, 2023 | 1:30 p.m.-5:00 p.m. (EST) | Boston VA Medical Center or via Microsoft TEAMS Link | Yes.

Sessions are open to the public, except when the Committee is conducting a tour of VA facilities. Tours of VA facilities are closed, to protect Veterans' privacy and personal information, by 5 U.S.C. 552b(c)(6).

The purpose of the Committee is to advise the Secretary of Veterans Affairs on the administration of benefits under title 38 U.S.C., for Veterans who are Former Prisoners of War (FPOW), and to make recommendations on the needs of such Veterans for compensation, health care, rehabilitation, and memorial benefits.

On Wednesday, April 26th, the Committee will assemble in open session from 8:00 a.m. to 4:00 p.m. for discussion and briefings from Veterans Affairs Central Office, Veterans Benefits Administration and Veterans Health Administration officials.

On Thursday, April 27th, the Committee will assemble in open session from 8:30 a.m. to 9:00 a.m. for discussion and briefings from National Cemetery Administration officials. The Committee will then convene a closed session from 9:00 a.m.-12:00 p.m. to tour the Boston VA Medical Center—Jamaica Plains. The Committee will reconvene in open session at 1:30 p.m.; and the meeting will adjourn at 5:00 p.m.

Any member of the public who wishes to speak at the public forum are invited to submit a 1-2-page commentary for the Committee's review and inclusion in official meeting records.

Any member seeking additional information should contact, Designated Federal Officer, Department of Veterans Affairs, Advisory Committee on Former Prisoners of War at Julian.Wright2@va.gov no later than April 25, 2023. Public stakeholders attending the meeting should be prepared to present identification to enter government facilities and comply with health and safety protocols for that facility.

Additionally, any member of the public who wishes to participate in the virtual meeting may use the following Microsoft TEAMS Meeting Link:

Join On Your Computer or Mobile App: https://teams.microsoft.com/l/meetup-join/19%3ameeting_ZDVlMTYzMjItMDA0MS00ZjA1LThiM2YtNzNlYzkxMzczOGFi%40thread.v2/0?context=%7b%22Tid%22%3a%22e95f1b23-abaf-45ee-821d-b7ab251ab3bf%22%2c%22Oid%22%3a%22b857b6c6-44d8-46b4-8041-6e7d50b9890a%22%7d

Meeting ID: 247 578 443 565

Passcode: 7Fdafh

Download Teams | Join on the web

Or call-in (audio only) +1 872-701-0185,,616157593# United States, Chicago

Phone Conference ID: 616 157 593#

Dated: March 20, 2023.
Jelessa M. Burney,
Federal Advisory Committee Management Officer.

[FR Doc. 2023-06079 Filed 3-23-23; 8:45 am]

BILLING CODE P